DEPARTMENT OF THE INTERIOR

Fish and Wildlife Service

[FWS-HQ-IA-2013-N131; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before July 8, 2013. We must receive requests for marine mammal permit public hearings, in writing, at the address shown in the ADDRESSES section by July 8, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received.

If you request a hearing, give specific reasons why a hearing would be appropriate. The holding of such a hearing is at the discretion of the Service Director.

III. Permit Applications

A. Endangered species

Applicant: Brad Blevins, Edmond OK; PRT-804095

The applicant requests renewal of their captive-bred wildlife registration under 50 CFR 17.21(g) for the Galapagos tortoise (Chelonoidis nigra) and radiated tortoise (Astrochelys radiata) to enhance their propagation or survival. This notification covers activities to be conducted by the applicant over a 5-year period.

Applicant: Blue Sky Aviaries LLC, Christiansburg, VA; PRT-05648B

The applicant requests a captive-bred wildlife registration under 50 CFR 17.21(g) for golden parakeet (Guarouba guarouba), Cuban parrot (Amazona leucocephala), and Vinaceous parrot (Amazona vinacea) to enhance the species' propagation or survival. This notification covers activities to be conducted by the applicant over a 5-year period.

Applicant: Masquerade Exotic Animals, LLC, Milton, GA; PRT-05246B

The applicant requests a captive-bred wildlife registration under 50 CFR 17.21(g) for ring-tailed lemur (Lemur catta), black and white ruffed lemur (Varecia variegata), red ruffed lemur (Varecia rubra), black lemur (Eulemur macaco), white-fronted lemur (Eulemur albifrons), brown lemur (Eulemur fulvus), cotton-top tamarin (Saguinus oedipus), Diana monkey (Cercopithecus diana), mandrill (Mandrillus sphinx), lar gibbon (Hylobates lar), and siamang (Symphalangus syndactylus), to enhance the species' propagation or survival. This notification covers activities to be conducted by the applicant over a 5-year period.

Applicant: Cord Offermann, Austin, TX; PRT-05160B

The applicant requests a captive-bred wildlife registration under 50 CFR 17.21(g) for Galapagos tortoise (Chelonoidis nigra), radiated tortoise (Astrochelys radiata), yellow-spotted river turtle (Podocnemis unifilis), tartaruga (Podocnemis expansa), and spotted pond turtle (Geoclemys hamiltonii), to enhance the species' propagation or survival. This notification covers activities to be conducted by the applicant over a 5-year period.

Applicant: Pittsburgh Zoo, Pittsburgh, PA; PRT-840690

The applicant requests renewal of their captive-bred wildlife registration under 50 CFR 17.21(g) for the following families and species, to enhance their propagation or survival. This notification covers activities to be conducted by the applicant over a 5-year period.

Families

Cercopithecidae

Felidae (does not include Jaguar, Ocelot, or Margay)

Hominidae

Lemuridae

Crocodylidae

Species

Black rhinoceros (Diceros bicornis)

African wild dog (Lycaon pictus)

White-cheeked gibbon (Nomascus leucogenys)

Cotton-top tamarin (Saguinus oedipus)

Aruba Island rattlesnake (Crotalus durissus unicolor)

Applicant: Wesley Williams, Orangeburg, SC; PRT-156736

The applicant requests renewal of their captive-bred wildlife registration under 50 CFR 17.21(g) for the Galapagos tortoise (Chelonoidis nigra) and radiated tortoise (Astrochelys radiata) to enhance their propagation or survival. This notification covers activities to be conducted by the applicant over a 5-year period.

Applicant: City of Gainesville, dba Frank Buck Zoo, Gainesville, TX; PRT-06588B

The applicant requests a captive-bred wildlife registration under 50 CFR 17.21(g) for ring-tailed lemur (Lemur catta), black and white ruffed lemur (Varecia variegata), red ruffed lemur (Varecia rubra), black lemur (Eulemur macaco), cotton-top tamarin (Saguinus oedipus), lar gibbon (Hylobates lar), clouded leopard (Neofelis nebulosa), scimitar-horned oryx (Oryx dammah), Galapagos tortoise (Chelonoidis nigra), and radiated tortoise (Astrochelys radiata) to enhance the species' propagation or survival. This notification covers activities to be conducted by the applicant over a 5-year period.

Applicant: KHJ Property Management LLC, Del Rio, TX; PRT-93972A

The applicant requests amendment of their captive-bred wildlife registration under 50 CFR 17.21(g) to include barasingha (Rucervus duvaucelii), Eld's deer (Rucervus eldii), Arabian oryx (Oryx leucoryx), and dama gazelle (Nanger dama), to enhance the species' propagation or survival. This notification covers activities to be conducted by the applicant over a 5-year period.

Applicant: Timothy Gazankas, Drayton Valley, Alberta, Canada; PRT-06849B

The applicant requests a permit to export the sport-hunted trophy of one male scimitar-horned oryx (Oryx dammah), culled from a captive herd maintained in the State of Texas, for the purpose of enhancement of the survival of the species.

Applicant: Animal Conservation Unlimited, Virginia Beach, VA; PRT-06673B

The applicant requests a permit for the export of one captive-bred jackass penguin (Spheniscus demersus) to Assiniboine Park Zoo, Winnipeg, Manitoba, Canada, for the purpose of enhancement of the survival of the species.

Applicant: Louis Waters, Utopia, TX; PRT-682850

The applicant requests renewal of their captive-bred wildlife registration under 50 CFR 17.21(g) for the following families, and species, to enhance their propagation or survival. This notification covers activities to be conducted by the applicant over a 5-year period.

Families

Equidae

Bovidae

Cervidae

Species

Lar gibbon (Hylobates lar)

Applicant: Zoological Society of San Diego, dba San Diego Zoo Global, San Diego, CA; PRT-694912

The applicant requests renewal of their captive-bred wildlife registration under 50 CFR 17.21(g) for the following families, genera and species, to enhance their propagation or survival. This notification covers activities to be conducted by the applicant over a 5-year period.

Families

Bovidae

Camelidae

Canidae

Cebidae

Cercopithecidae

Cervidae

Cheirogaleidae

Daubentoniidae

Equidae

Felidae (does not include jaguar, margay or ocelot)

Hominidae

Hylobatidae

Indriidae

Lemuridae

Loridae

Macropodidae

Potoroidae

Rhinocerotidae

Tapiridae

Tarsiidae

Ursidae

Accipitridae

Cathartidae

Columbidae

Gruidae

Psittacidae (does not include thick-billed parrots)

Rheidae

Sturnidae (does not include Aplonis Pelzelni)

Threskiornithidae

Crocodylidae

Iguanidae

Testudinidae

Varanidae

Cryptobranchidae

Genus

Tragopan

Apalone

Trionyx

Trachemys

Species

Asian elephant (Elephas maximus)

Koala (Phascolarctos cinereus)

Indian python (Python molurus molurus)

Applicant: Robert Blome, Florence, AZ; PRT-785246

The applicant requests amendment of their captive-bred wildlife registration under 50 CFR 17.21(g) to include spotted pond turtle, (Geoclemys hamiltonii), yellow-spotted river turtle (Podocnemis unifilis), tartaruga (Podocnemis expansa), Cuban ground iguana (Cyclura nubila nubila), Grand Cayman blue iguana (Cyclura lewisi), and Cayman Brac ground iguana (Cyclura nubila caymanensis) to enhance their propagation or survival. This notification covers activities to be conducted by the applicant over a 5-year period.

Applicant: Corley Ranch, Madisonville, TX; PRT-06542B

The applicant requests a captive-bred wildlife registration under 50 CFR 17.21(g) for the scimitar-horned oryx (Oryx dammah) to enhance the species' propagation or survival. This notification covers activities to be conducted by the applicant over a 5-year period.

Applicant: Corley Ranch, Madisonville, TX; PRT-06662B

The applicant requests a permit authorizing interstate and foreign commerce, export, and cull of excess scimitar-horned oryx (Oryx dammah) from the captive herd maintained at their facility, for the purpose of enhancement of the survival of the species. This notification covers activities to be conducted by the applicant over a 5-year period.

Applicant: Douglas Dix, dba Deer Fern Farms, Arlington, WA; PRT-07311B

The applicant requests a captive-bred wildlife registration under 50 CFR 17.21(g) for spotted pond turtle, (Geoclemys hamiltonii), yellow-spotted river turtle (Podocnemis unifilis), tartaruga (Podocnemis expansa), Cuban ground iguana (Cyclura nubila nubila), Grand Cayman blue iguana (Cyclura lewisi) and to enhance the species' propagation or survival. This notification covers activities to be conducted by the applicant over a 5-year period.

B. Endangered Marine Mammals and Marine Mammals

Applicant: USFWS, Marine Mammals Management, Anchorage, AK; PRT-041309

The applicant requests renewal of the permit to take northern sea otters (Enhydra lutris kenyoni) from the wild in the State of Alaska via capture, tagging, biological sampling, carcass retrieval, and aerial and boat surveys for the purpose of scientific research on the status of sea otters in Alaska. Permittee would also import and export biological specimens. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2013-13408 Filed 6-5-13; 8:45 am]

BILLING CODE 4310-55-P